DEPARTMENT OF AGRICULTURE

Animal and Plant Health Inspection Service

[Docket No. APHIS-2010-0083]

Notice of Request for Extension of Approval of an Information Collection; National Management Information System

AGENCY: Animal and Plant Health Inspection Service, USDA.

ACTION: Extension of approval of an information collection; comment request.

SUMMARY: In accordance with the Paperwork Reduction Act of 1995, this notice announces the Animal and Plant Health Inspection Service’s intention to request an extension of approval of an information collection associated with cooperative wildlife damage management programs.

DATES: We will consider all comments that we receive on or before October 26, 2010.

ADDRESSES: You may submit comments by either of the following methods:

• Federal eRulemaking Portal: Go to (http://www.regulations.gov/fdmspublic/component/main?main=DocketDetail&d=APHIS-2010-0083) to submit or view comments and to view supporting and related materials available electronically.

• Postal Mail/Commercial Delivery: Please send one copy of your comment to Docket No. APHIS-2010-0083, Regulatory Analysis and Development, PPD, APHIS, Station 3A-03.8, 4700 River Road Unit 118, Riverdale, MD 20737-1238. Please state that your comment refers to Docket No. APHIS-2010-0083.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on the national management information system for cooperative wildlife damage management programs, contact Mr. Robert Myers, Wildlife Biologist, Wildlife Services, APHIS, 4700 River Road Unit 87, Riverdale MD 20737; (301) 651-8845. For copies of more detailed information on the information collection, contact Mrs. Celeste Sickles, APHIS’ Information Collection Coordinator, at (301) 851-2908.

SUPPLEMENTARY INFORMATION: Title: National Management Information System.

OMB Number: 0579-0335.

Type of Request: Extension of approval of an information collection.

Abstract: As authorized by the Act of 1931 (7 U.S.C. 426-426c; 46 Stat. 1468) as amended, the Secretary of Agriculture may conduct activities and enter into agreements with States, local jurisdictions, individuals, public and private agencies, organizations, and institutions in the control of nuisance mammals and birds and those mammal and bird species that are reservoirs for zoonotic diseases.

Wildlife Services (WS) of the Animal and Plant Health Inspection Service (APHIS), U.S. Department of Agriculture (USDA), cooperates with Federal agencies, State and local governments, and private individuals to research and implement the best methods of managing conflicts between wildlife and human health and safety, agriculture, property, and natural resources.

As part of the WS program, WS enters into agreements to document the terms and conditions for cooperating with parties outside of APHIS.

In the normal course of business in response to requests for assistance in managing wildlife damage, WS collects information about organizations, industry, Federal and non-Federal entities, and members of the public as part of its program. Program activities usually consist of either cooperative direct control or technical assistance programs. In the former, WS provides goods, services, and expertise to address wildlife damage. Clients must reimburse USDA for expenses and time spent by WS to conduct these kinds of programs. In the latter, WS gives advice in the form of telephone consultations, personal onsite consultations, training sessions, demonstration projects, etc. WS usually provides only technical expertise in these activities, and the client usually conducts whatever activities are likely to manage the wildlife damage occurring. Such activities are usually free to the public.

All persons who receive assistance from WS are referred to as “cooperators,” and any information provided by clients to WS is voluntary.

Information is used by the agency to:

• Identify cooperators appropriately.

• Identify lands on which WS personnel will work.

• Differentiate between cooperators (i.e., property owners, land managers, or resource owners) who request assistance to manage damage caused by wildlife.

• Identify the land areas on which wildlife damage management activities would be conducted.

• Identify the relationship between resources or property, WS’ protection of such resources or property, and the damage caused by wildlife.

• Determine the methods or damage management activities to deal with the damage.

• Establish a record that a cooperative agreement has been entered into with a cooperator.

• Document that permission has been obtained from landowners to go on the cooperator’s property.

• Record wildlife damage occurrences on cooperator’s property and steps to address them.

• Record occurrences which may have affected non-target species or humans during, or related to, WS project actions.

• Determine satisfaction with service to help WS evaluate, modify, and improve its programs.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.045736 hours per response.

Respondents: Federal, State, and local agencies and the public who request services from WS or engage in wildlife damage management projects with WS.

Estimated annual number of respondents: 89,902.

Estimated annual number of responses per respondent: 1.01295.

Estimated annual number of responses: 91,066.

Estimated total annual burden on respondents: 4,165 hours. (Due to averaging, the total annual burden hours may not equal the product of the annual number of responses multiplied by the reporting burden per response.)

All responses to this notice will be summarized and included in the request for OMB approval. All comments will also become a matter of public record.

Done in Washington, DC, this 23rd day of August 2010.

Gregory Parham
Acting Administrator, Animal and Plant Health Inspection Service.

[FR Doc. 2010-21459 Filed 8-26-10: 8:45 am]

BILLING CODE 3410-34-S